FEDERAL COMMUNICATIONS COMMISSION

47 CFR Part 73

[DA 03-2413; MB Docket No. 03-13; RM-10628]

Radio Broadcasting Services; Johnston City and Marion, IL

AGENCY: Federal Communications Commission.

ACTION: Final rule.

SUMMARY: In response to a Notice of Proposed Rule Making, 68 FR 5860 (February 5, 2003), this document reallots Channel 297B from Marion Illinois, to Johnston City, Illinois. The coordinates for Channel 297B at Johnston City are 37-45-15 North Latitude and 88-56-05 West Longitude, with a site restriction of 7.4 kilometers (4.6 miles) south of Johnston City, Illinois.

DATES: Effective September 8, 2003.

FOR FURTHER INFORMATION CONTACT: R. Barthen Gorman, Media Bureau, (202) 418-2180.

SUPPLEMENTARY INFORMATION: This is a synopsis of the Commission's Report and Order, MB Docket No. 03-13, adopted July 23, 2003, and released July 24, 2003. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Illinois, is amended by adding Johnston City, Channel 297B and by removing Marion, Channel 297B.

Federal Communications Commission.
John A. Karousos,
Assistant Chief, Audio Division, Media Bureau.

[FR Doc. 03-20209 Filed 8-7-03; 8:45 am]

BILLING CODE 6712-01-P